DEPARTMENT OF HOMELAND SECURITY

Federal Emergency Management Agency

[Docket ID FEMA-2020-0016]

Meetings To Implement Pandemic Response Voluntary Agreement under Section 708 of the Defense Production Act; Correction

AGENCY: Federal Emergency Management Agency, Department of Homeland Security.

ACTION: Announcement of meetings; correction.

SUMMARY: The Federal Emergency Management Agency (FEMA) published a document in the Federal Register of July 2, 2021, concerning an announcement of meetings to implement the Voluntary Agreement for the Manufacture and Distribution of Critical Healthcare Resources Necessary to Respond to a Pandemic. The document incorrectly listed certain meeting dates.

FOR FURTHER INFORMATION CONTACT: Robert Glenn, Office of Business, Industry, Infrastructure Integration, via email at OB3I@fema.dhs.gov or via phone at (202) 212-1666.

SUPPLEMENTARY INFORMATION:

Correction

In the Federal Register of July 2, 2021, in FR Doc. 2021-14251 on page 35309, in the second column, correct the DATES caption to read:

DATES: The schedule for these meetings is as follows:

• The first meeting took place on Tuesday, June 22, 2021, from 2 to 4 p.m. Eastern Time (ET).

• The second meeting took place on Wednesday, June 23, 2021, from 11 a.m. to 1 p.m. ET.

• The third meeting will take place on Tuesday, July 20, 2021, from 11 a.m. to 1 p.m. ET.

• The fourth meeting will take place on Thursday, July 22, 2021, from 2 to 4 p.m. ET.

• The fifth meeting will take place on Tuesday, August 17, 2021, from 11 a.m. to 1 p.m. ET.

• The sixth meeting will take place on Thursday, August 19, 2021, from 2 to 4 p.m. ET.

Dated: August 2, 2021.
Shabnaum Q. Amjad,
Deputy Associate Chief Counsel, Regulatory Affairs Division, Office of Chief Counsel, Federal Emergency Management Agency.

[FR Doc. 2021-16708 Filed 8-4-21; 8:45 am]

BILLING CODE 9111-19-P